DEPARTMENT OF TRANSPORTATION

Federal Aviation Administration

Notice of Intent To Rule on Request To Release Airport Property at the Saline County Regional Airport, Benton, Arkansas

AGENCY: Federal Aviation Administration (FAA), DOT.

ACTION: Notice of request to release airport property.

SUMMARY: The FAA proposes to rule and invite public comment on the release of land at the Saline County Regional Airport under the provisions of Section 125 of the Wendell H. Ford Aviation Investment Reform Act for the 21st Century (AIR 21).

DATES: Comments must be received on or before (from 30 days of the posting of this Federal Register Notice).

ADDRESSES: Comments on this application may be mailed or delivered to the FAA at the following address: Mr. Glenn A. Boles, Manager, Federal Aviation Administration, Southwest Region, Airports Division, Arkansas/Oklahoma Airports Development Office, ASW-630, Fort Worth, Texas 76177.

In addition, one copy of any comments submitted to the FAA must be mailed or delivered to Judge Jeff Arey, Saline County Judge, at the following address: 200 North Main Street, RM117, Benton, AR 72015.

FOR FURTHER INFORMATION CONTACT: Ms. Sara K. Fields-Pack, Program Manager, Federal Aviation Administration, Arkansas/Oklahoma Airports Development Office, ASW-630, 10101 Hillwood Parkway, Fort Worth, Texas 76177, Telephone: (817) 222-4101, Email: sara.k.fields-pack@faa.gov.

SUPPLEMENTARY INFORMATION: The FAA invites public comment on the request to release property at the Saline County Regional Airport under the provisions of the AIR 21.

The following is a brief overview of the request:

Saline County requests the release of 28.97 acres of excess aeronautical land. The property will be sold for non-aeronautical land use purposes.

Any person may inspect the request in person at the FAA office listed above under FOR FURTHER INFORMATION CONTACT.

In addition, any person may, upon request, inspect the application, notice and other documents relevant to the application in person at the Saline County Attorney, telephone number (501) 303-1555.

Ignacio Flores,
Director, Office of Airports Southwest Region.

[FR Doc. 2022-00241 Filed 1-10-22; 8:45 am]

BILLING CODE P